DEPARTMENT OF HEALTH AND HUMAN SERVICES

Centers for Disease Control and Prevention

[30Day-22-21EL]

Agency Forms Undergoing Paperwork Reduction Act Review

In accordance with the Paperwork Reduction Act of 1995, the Centers for Disease Control and Prevention (CDC) has submitted the information collection request titled “National Learning Community for HIV CBO Leadership Evaluation” to the Office of Management and Budget (OMB) for review and approval. CDC previously published a “Proposed Data Collection Submitted for Public Comment and Recommendations” notice on April 26, 2021 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Learning Community for HIV CBO Leadership Evaluation—New—National Center for HIV/AIDS, Viral Hepatitis, STD, and TB Prevention (NCHHSTP), Centers for Disease Control and Prevention (CDC).

Background and Brief Description

The Centers for Disease Control and Prevention (CDC) partners with the national HIV prevention workforce to: (1) Ensure that persons with HIV (PWH) are aware of their infection and successfully linked to medical care and treatment to achieve viral suppression, and (2) expand access to pre-exposure prophylaxis (PrEP), condoms, and other proven strategies for persons at risk of becoming infected. CDC funds state and local health departments and community-based organizations (CBOs) to optimally plan, integrate, implement, and sustain comprehensive HIV prevention programs and services for people with and at greatest risk of HIV infection, including blacks/African Americans; Hispanics/Latinos; all races/ethnicities of gay, bisexual, and other men who have sex with men (MSM); people who inject drugs (PWID); and transgender persons.

Through the CDC cooperative agreement program entitled CDC-RFA-PS19-1904: Capacity Building Assistance (CBA) for High Impact HIV Prevention Program Integration, the CDC Division of HIV/AIDS Prevention (DHAP) funds the CBA Provider Network (CPN) to deliver CBA to CDC-funded health departments and CBOs. As part of that funding, the CDC has funded the Asian & Pacific Islander American Health Forum (APIAHF) to provide community-based organization (CBO) mid-level and senior leadership state-of-the-art trainings on how to improve their management of people, programs, and organizations to optimally provide HIV prevention, treatment, and/or care services. A key foundational course for all who enroll in the Learning Community is a comprehensive overview of the national strategy on ending the HIV epidemic. This information collection evaluates the Learning Community. Specifically, CDC and APIAHF are requesting the Office of Management and Budget (OMB) to grant a three-year approval to collect data through the use of a Registration Form, a Post-Participation Survey, and a Post-Participation Semi-Structured Interview that will be administered to participants of the Learning Community.

The Learning Community participants will complete the Registration Form as part of the process for enrollment. The Learning Community Registration Form collects demographic information about participants including: (1) Business contact information (e.g., email and telephone number, job title); (2) basic demographics on race, ethnicity, gender, sexual orientation, and employment setting; (3) programmatic and population areas of focus; and (4) work experience as a manager or organizational lead. After participating in the foundational courses and other course offerings over a 12-week period, participants are invited to complete the Post-Participation Survey. The Post-Participation Survey is designed to elicit information from participants about their experiences and feedback regarding the content of the courses and the delivery of the course material and other services (management coaching services are also being offered).

Also, part of the offering of the Learning Community is a 6-week Problem-Solving Intensive that is designed to help managers work though specific managerial problems using the tenants of human-centered design. At the end of the Intensive, participants will be invited to participate in a Semi-Structured Interview by Zoom where they will discuss their experiences and feedback on the Intensive. The Registration Form, Post-Participation Survey, and Post-Participation Semi-Structured Interview (for those participating in the Intensive) will be administered to CBO staff who participate in these respective Learning Community activities.

The information collected will allow APIAHF to:

(1) Identify and respond to program performance issues identified through feedback from participants;

(2) Identify potentially new courses that may be of some use to HIV CBO leadership;

(3) Provide a timely and accurate aggregated accounting of patterns of usage and enrollment trends to CDC and other state, and local agencies and other stakeholders seeking information about the services delivered in the Learning Community.

No other federal agency collects these types of national HIV prevention capacity building data. Respondents will provide information electronically through the online Registration Form and Post-Participation Survey. The number of respondents is calculated based on an expected number of CBO managers at CDC-funded organizations, given the previous number of organizations funded by CDC. We estimate 270 CBO managers will complete the Registration Form and the Post-Participation Survey, and 135 will provide responses to the Semi-Structured Interview, annually. The total annualized burden is 89 hours. There are no other costs to respondents other than their time.

Estimated Annualized Burden Hours
Type of respondent | Form name | Number of respondents | Number of responses per respondent | Average burden per response (in hours)
CBO Managers | Registration Form | 270 | 1 | 3/60
CBO Managers | Post Participation Survey | 270 | 1 | 9/60
CBO Managers | Semi-Structured Zoom Interview | 135 | 1 | 15/60

Jeffrey M. Zirger,
Lead, Information Collection Review Office, Office of Scientific Integrity, Office of Science, Centers for Disease Control and Prevention.

[FR Doc. 2021-25446 Filed 11-19-21; 8:45 am]

BILLING CODE 4163-18-P